DEPARTMENT OF TREASURY

Office of the Comptroller of the Currency

12 CFR Parts 3 and 32

[Docket ID OCC-2018-0030]

RIN 1557-AE44

FEDERAL RESERVE SYSTEM

12 CFR Part 217

[Docket R-1629]

RIN 7100-AF22

FEDERAL DEPOSIT INSURANCE CORPORATION

12 CFR Part 324

RIN 3064-AE80

Notice, Extension of Comment Period; Standardized Approach for Calculating the Exposure Amount of Derivatives Contracts

AGENCY: The Board of Governors of the Federal Reserve System; the Federal Deposit Insurance Corporation, and the Office of the Comptroller of the Currency, Treasury.

ACTION: Notice; extension of comment period.

SUMMARY: On December 17, 2018, the Board of Governors of the Federal Reserve System (Board), the Federal Deposit Insurance Corporation (FDIC), and the Office of the Comptroller of the Currency (OCC) (collectively, the agencies) published in the Federal Register a proposal to amend the agencies' capital rule to implement the Standardized Approach for Calculating the Exposure Amount of Derivatives Contracts. The agencies have determined that an extension of the comment period until March 18, 2019, is appropriate.

DATES: Comments must be received by March 18, 2019.

ADDRESSES: You may submit comments by any of the methods identified in the proposal.

FOR FURTHER INFORMATION CONTACT:

OCC: Guowei Zhang, Risk Expert, Capital Policy, (202) 649-7106; Kevin Korzeniewski, Counsel, (202) 649-5490; or Ron Shimabukuro, Senior Counsel, (202) 649-5490, or, for persons who are deaf or hearing impaired, TTY, (202) 649-5597, Chief Counsel's Office, Office of the Comptroller of the Currency, 400 7th Street SW, Washington, DC 20219.

Board: Constance M. Horsley, Deputy Associate Director, (202) 452-5239; David Lynch, Deputy Associate Director, (202) 452-2081; Elizabeth MacDonald, Manager, (202) 475-6316; Michael Pykhtin, Manager, (202) 912-4312; Mark Handzlik, Senior Supervisory Financial Analyst, (202) 475-6636; Sara Saab, Supervisory Financial Analyst, (202) 872-4936; or Noah Cuttler, Senior Financial Analyst, (202) 912-4678; Division of Supervision and Regulation; or Benjamin W. McDonough, Assistant General Counsel, (202) 452-2036; Gillian Burgess, Senior Counsel, (202) 736-5564; Mark Buresh, Counsel, (202) 452-5270; Andrew Hartlage, Counsel, (202) 452-6483; Legal Division, Board of Governors of the Federal Reserve System, 20th and C Streets NW, Washington, DC 20551. For the hearing impaired only, Telecommunication Device for the Deaf, (202) 263-4869.

FDIC: Bobby R. Bean, Associate Director, bbean@fdic.gov; Irina Leonova, Senior Policy Analyst, ileonova@fdic.gov; Peter Yen, Senior Policy Analyst, pyen@fdic.gov, Capital Markets Branch, Division of Risk Management Supervision, (202) 898-6888; or Michael Phillips, Counsel, mphillips@fdic.gov; Catherine Wood, Counsel, cawood@fdic.gov; Supervision Branch, Legal Division, Federal Deposit Insurance Corporation, 550 17th Street NW, Washington, DC 20429.

SUPPLEMENTARY INFORMATION: On December 17, 2018, the Board, FDIC, and OCC published in the Federal Register a proposal to amend the agencies' capital rule to implement the Standardized Approach for Calculating the Exposure Amount of Derivatives Contracts.¹ The notice of proposed rulemaking stated that the comment period would close on February 15, 2019. The agencies have received requests to extend the comment period. An extension of the comment period will provide additional opportunity for the public to consider the proposal and prepare comments, including to address the questions posed by the agencies. Therefore, the agencies are extending the end of the comment period for the proposal from February 15, 2019, to March 18, 2019.

¹ 83 FR 64660 (December 17, 2018).

Dated: February 19, 2019.
Joseph M. Otting,
Comptroller of the Currency.
By order of the Board of Governors of the Federal Reserve System, acting through the Secretary of the Board under delegated authority, February 14, 2019.
Ann E. Misback,
Secretary of the Board.
Dated at Washington, DC, on February 15, 2019.
By order of the Board of Directors.
Federal Deposit Insurance Corporation.
Valerie J. Best,
Assistant Executive Secretary.

[FR Doc. 2019-03249 Filed 2-25-19; 8:45 am]

BILLING CODE P